DEPARTMENT OF ENERGY

10 CFR Part 460

[Docket No. EERE-2009-BT-BC-0021]

RIN 1904-AC11

Energy Efficiency Standards for Manufactured Housing

AGENCY: Office of Energy Efficiency and Renewable Energy, Department of Energy.

ACTION: Advance notice of proposed rulemaking (ANOPR); request for comment.

SUMMARY: The U.S. Department of Energy (DOE) has initiated the process to develop and publish energy standards for manufactured housing as directed by the Energy Independence and Security Act (EISA) of 2007. To facilitate this process, enhance the quality of the standards and supporting documentation, and to allow interested parties to provide suggestions, comments and information, DOE is publishing this advance notice of proposed rulemaking. As the energy efficiency standards would cover new manufactured housing, DOE is interested in information that relates to the design, construction, financing, operating costs, and other areas of relevance to establishing and implementing such standards. This notice identifies several areas on which DOE is particularly interested in receiving information; however, any input and suggestions considered relevant to the topic are welcome.

DATES: Written comments and information are requested on or before March 24, 2010.

ADDRESSES: Interested persons may submit comments, identified by docket number EERE-2009-BT-BC-0021, by any of the following methods:

• Federal eRulemaking Portal: http://www.regulations.gov. Follow the instructions for submitting comments.

• E-mail: Manufactured.Housing@ee.doe.gov. Include EERE-2009-BT-BC-0021 in the subject line of the message.

• Mail: Ms. Brenda Edwards, U.S. Department of Energy, Building Technologies Program, Mailstop EE-2J, Energy Efficiency Standards for Manufactured Housing, EERE-2009-BT-BC-0021, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

• Instructions: All submissions received must include the agency name and docket number or RIN for this rulemaking.

• Docket: For access to the docket to read background documents, or comments received, go to the U.S. Department of Energy, 6th Floor, 950 L'Enfant Plaza, SW., Washington, DC 20024, (202) 586-2945, between 9 a.m. and 4 p.m., Monday through Friday, except Federal holidays. Please call Ms. Brenda Edwards at (202) 586-2945 for additional information regarding visiting the Building Technologies Resource Room.

FOR FURTHER INFORMATION CONTACT: Direct requests for additional information to Messer's Ronald B. Majette or Harry Indig, U.S. Department of Energy, Office of Energy Efficiency and Renewable Energy, Building Technologies Program, Mailstop EE-2J, 1000 Independence Avenue, SW., Washington, DC 20585-0121, Mr. Majette (202) 586-7935, e-mail: ronald.majette@ee.doe.gov or Mr. Indig (202) 287-1585, e-mail: harry.indig@ee.doe.gov. In the Office of the General Counsel, contact Mr. Michael Jensen, U.S. Department of Energy, Office of the General Counsel, Forrestal Building, GC-71, 1000 Independence Avenue, SW., Washington, DC 20585. Telephone: (202) 586-5829. E-mail: Michael.Jensen@hq.doe.gov.

SUPPLEMENTARY INFORMATION:

Authority and Background: Section 413 of the Energy Independence and Security Act of 2007 (EISA), 42 U.S.C. 17071 requires that DOE:

• Establish by rule standards for energy efficiency in manufactured housing within four (4) years of the date of enactment of EISA.

• Provide a notice and an opportunity for comment on the proposed standards by all interested parties.

• Consult with the Secretary of the U.S. Department of Housing and Urban Development (HUD), who can seek further counsel from the HUD Manufactured Housing Consensus Committee.

• Base the energy efficiency standards on the most recent version of the International Energy Conservation Code (IECC), except where DOE finds that the IECC is not cost effective, or a more stringent standard would be more cost effective, based on the impact of the IECC on the purchase price of manufactured housing and on total life-cycle construction and operating costs.

• In establishing the energy efficiency standards, DOE is directed to consider:

○ The design and factory construction techniques of manufactured housing,

○ The climate zones established in HUD's current manufactured housing energy efficiency standards rather than the climate zones in the IECC, and

○ Alternative practices that result in net estimated energy consumption equal to or less than the specific IECC standards.

• Provide a system for enforcement in which “[a]ny manufacturer of manufactured housing that violates a provision of the regulations under subsection (a) is liable to the United States for a civil penalty in an amount not exceeding 1 percent of the manufacturer's retail list price of the manufactured housing.”

In view of the above, DOE believes it is important to allow interested parties an opportunity to provide information they feel will assist DOE in developing the proposed standards. This initial request for input will be followed by a notice of proposed rulemaking, based on the information received as a result of this notice and other data and information gathered by DOE.

Public Participation

A. Submission of Information

DOE will accept comments in response to this notice under the timeline provided in the DATES section above. Comments submitted to the Department by e-mail should be provided in WordPerfect, Microsoft Word, PDF, or text file format. Those responding should avoid the use of special characters or any form of encryption, and wherever possible, comments should include the electronic signature of the author. Comments submitted to the Department by mail or hand delivery/courier should include one signed original paper copy. No telefacsimiles will be accepted.

Comments submitted in response to this notice will become a matter of public record and will be made publicly available.

B. Issues on Which DOE Seeks Information

DOE is particularly interested in receiving information on the following issues:

(1) Differences between site-built and factory-built construction techniques that may justify creating unique energy efficiency requirements for manufactured housing that are different from the requirements in the 2009 IECC.

(2) Specific construction cost data on manufactured home measures affecting energy efficiency such as insulation levels including associated construction impacts, fenestration (windows, skylights and doors), duct design and insulation, and permanent lighting; specifically any information on an increase or decrease in first cost to the home purchaser of designing and constructing manufactured homes consistent with the current IECC.

(3) Other economic parameters such as lending scenarios, interest rates, loan duration, energy costs, and recommended values and approaches for addressing financial considerations and life cycle costs.

(4) Statistics associated with HVAC system and equipment type, window type, and insulation levels, provided in recently built new manufactured homes by state or region.

(5) Energy and/or operational cost savings estimates and/or metered data associated with different energy options for manufactured housing design and construction.

(6) The range of design specifications available for products, systems, equipment, and materials used in the construction of manufactured homes, and statistics on their frequency of use in manufactured homes.

(7) The manner in which applicable climatic differences should be addressed through a singular energy standard addressing manufactured homes.

(8) Areas in the current HUD code that are directly or indirectly related to energy or affect energy use of which DOE should be aware in establishing energy standards for manufactured housing (e.g., structural requirements that could affect the ability of a wall assembly to meet certain energy efficiency criteria or the relationship of wind loads and fenestration design).

(9) Relationship, if any, DOE energy standards for manufactured housing should have with other existing energy programs for manufactured housing (e.g., ENERGY STAR) and/or the analysis that DOE should conduct in assessing such programs.

(10) Relationship, if any, that DOE energy conservation standards for manufactured housing should have with HUD's manufactured home construction and safety standards.

(11) Whether DOE's system of enforcement should compliment and/or be compatible with HUD's existing system of enforcement of the HUD Code for manufactured homes.

(12) What characteristics should DOE's system of enforcement have.

(13) Suggested sources, studies, and research results of other information considered relevant to DOE's effort to establish energy standards for manufactured housing.

Docket: For direct access to the docket, go to the U.S. Department of Energy, 950 L'Enfant Plaza (Resource Room of the Building Technologies Program, Sixth Floor), Washington, DC, between 9 a.m. and 4 p.m., Monday through Friday, except Federal holidays. Please call Ms. Brenda Edwards at (202) 586-2945 for additional information regarding the Resource Room.

Procedural Requirements: Today's regulatory action has been determined to be a significant regulatory action under section 3(f)(1) of Executive Order 12866, “Regulatory Planning and Review”, 58 FR 51735 (Oct. 4, 1993). Accordingly, section 6(a)(3) of the Executive Order requires a review of this advance notice of proposed rulemaking by the Office of Information and Regulatory Affairs (OIRA) in the Office of Management and Budget. OIRA has concluded its review.

DOE intends to develop a regulatory impact analysis (RIA), also identified by section 6(a)(3), as this rulemaking process proceeds. As part of the notice of proposed rulemaking the draft RIA would be presented to OIRA for review and would be included in the rulemaking record for public review.

Statutory Authority: Section 413 of the Energy Independence and Security Act of 2007 (EISA), 42 U.S.C. 17071.

Issued in Washington, DC, on January 22, 2010.
Cathy Zoi,
Assistant Secretary, Energy Efficiency and Renewable Energy.

[FR Doc. 2010-3341 Filed 2-19-10; 8:45 am]

BILLING CODE 6450-01-P